DEPARTMENT OF JUSTICE

Office of Juvenile Justice and Delinquency Prevention

[OJP (OJJDP)-1285]

RIN 1121-ZB90

Fiscal Year 2000 Missing and Exploited Children's Program Plan

AGENCY: Office of Justice Programs, Office of Juvenile Justice and Delinquency Prevention, Justice.

ACTION: Announcement of Fiscal Year 2000 Missing and Exploited Children's Program Plan.

SUMMARY: Notice is hereby given that the Office of Juvenile Justice and Delinquency Prevention (OJJDP) is issuing its Missing and Exploited Children's Program Final Program Plan for Fiscal Year 2000.

FOR FURTHER INFORMATION CONTACT: Ronald C. Laney, Director, Child Protection Division, 202-616-3637. [This is not a toll-free number.]

SUPPLEMENTARY INFORMATION: On January 7, 2000, OJJDP published the Fiscal Year 2000 Missing and Exploited Children's Program Proposed Program Plan in the Federal Register at 65 FR 1175 and requested public comments on the plan. No comments were received.

OJJDP has determined that the Proposed Program Plan does not need to be modified in any way. Accordingly, the Proposed Plan as published in the January 7, 2000, Federal Register is now the Final Missing and Exploited Children's Program Plan for Fiscal Year 2000.

Dated: June 27, 2000.
John J. Wilson,
Acting Administrator, Office of Juvenile Justice and Delinquency Prevention.

[FR Doc. 00-16711 Filed 6-30-00; 8:45 am]

BILLING CODE 4410-18-P